DEPARTMENT OF AGRICULTURE

Agricultural Marketing Service

7 CFR Parts 1000, 1001, 1005, 1006, 1007, 1030, 1032, 1033, 1124, 1126 and 1131

[Docket Nos. AMS-DA-07-0026; AO-14-A77, et al.; DA-07-02]

Milk in the Northeast and Other Marketing Areas; Reconvening of Hearing on Proposed Amendments to Tentative Marketing Agreements and Orders

AGENCY: Agricultural Marketing Service, USDA.

ACTION: Proposed rule; notice of reconvened public hearing on proposed rulemaking.

SUMMARY: This notice announces the reconvening of the hearing which began on February 26, 2007, in Strongsville, Ohio, and initially reconvened on April 9, 2007, in Indianapolis, Indiana, to consider proposals to amend the Class III and Class IV product price formulas applicable to all Federal milk marketing orders.

DATES: The hearing will reconvene at 1 p.m. on Monday, July 9, 2007.

ADDRESSES: The reconvened hearing will be held at the Sheraton Station Square Hotel, 300 West Station Square Drive, Pittsburgh, Pennsylvania 15219-1122, telephone: (412) 261-2000.

FOR FURTHER INFORMATION CONTACT: Jack Rower, Marketing Specialist, Order Formulation and Enforcement Branch, USDA/AMS/Dairy Programs, STOP 0231—Room 2971, 1400 Independence Avenue, Washington, DC 20250-0231, (202) 720-2357, e-mail address jack.rower@usda.gov.

Persons requiring a sign language interpreter or other special accommodations should contact Paul Huber, Assistant Market Administrator, at (330) 225-4758; e-mail phuber@fmmaclev.com before the hearing begins.

SUPPLEMENTARY INFORMATION:

Prior Documents in This Proceeding

Notice of Hearing: Issued February 5, 2007; published February 9, 2007 (72 FR 6179).

Supplemental Hearing Notice: Issued February 14, 2007; published February 20, 2007 (72 FR 7753).

Initial Reconvened Hearing Notice: Issued March 15, 2007; published March 21, 2007 (72 FR 13219).

Notice is hereby given that the hearing which was adjourned in Indianapolis, Indiana, April 9, 2007, by the Administrative Law Judge designated to hold said hearing and preside thereof, will reconvene in session at 1 p.m., July 9, 2007, at the Sheraton Station Square Hotel, 300 West Station Square Drive, Pittsburgh, Pennsylvania 15219. At the reconvened hearing, additional testimony will be received only on proposed amendments 1 through 20, listed in the hearing notice (72 FR 6179) and the supplemental hearing notice (72 FR 7753) to the tentative marketing agreements and to the orders regulating the handling of milk in the Northeast and other marketing areas.

List of Subjects in 7 CFR Parts 1000, 1001, 1005, 1006, 1007, 1030, 1032, 1033, 1124, 1126 and 1131

Milk marketing orders.

Authority: 7 U.S.C. 601-674, and 7253.

Dated: May 2, 2007.
Lloyd C. Day,
Administrator, Agricultural Marketing Service.

[FR Doc. 07-2283 Filed 5-7-07; 8:45 am]

BILLING CODE 3410-02-P